DEPARTMENT OF TRANSPORTATION

Federal Aviation Administration

14 CFR Part 39

[Docket No. FAA-2007-28944; Directorate Identifier 2006-NM-239-AD; Amendment 39-15430; AD 2008-06-18]

RIN 2120-AA64

Airworthiness Directives; Airbus Model A300 Series Airplanes and Airbus Model A300-600 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

[T]he detection of cracks on multiple aircraft in lower skin panel No. 2 forward of access panel 575FB/675FB held on the rear dummy spar, inboard of rib 9, fuselage side, aft of the rear spar.

This area of structure has been subjected to several repairs and modifications in previous years.

The AIRBUS Service Bulletins (SB) A300-57-0177 at Revision 3 and A300-57-6029 at Revision 4 define the various configurations for the mandatory inspections to be conducted in order to control or correct the development of cracks which could affect the structural integrity of the aircraft.

We are issuing this AD to require actions to correct the unsafe condition on these products.

DATES: This AD becomes effective April 23, 2008.

The Director of the Federal Register approved the incorporation by reference of certain publications listed in this AD as of April 23, 2008.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Discussion

We issued a notice of proposed rulemaking (NPRM) to amend 14 CFR part 39 to include an AD that would apply to the specified products. That NPRM was published in the Federal Register on August 16, 2007 (72 FR 45978). That NPRM proposed to correct an unsafe condition for the specified products. The MCAI states:

This Airworthiness Directive (AD) is published subsequent to the detection of cracks on multiple aircraft in lower skin panel No. 2 forward of access panel 575FB/675FB held on the rear dummy spar, inboard of rib 9, fuselage side, aft of the rear spar.

This area of structure has been subjected to several repairs and modifications in previous years.

The AIRBUS Service Bulletins (SB) A300-57-0177 at Revision 3 and A300-57-6029 at Revision 4 define the various configurations for the mandatory inspections to be conducted in order to control or correct the development of cracks which could affect the structural integrity of the aircraft.

The MCAI requires various repetitive inspections (detailed visual, high frequency eddy current, X-ray) of the wing lower skin panel and associated internal support structure for cracking and, if necessary, corrective measures (modifying the lower panel inboard of rib 9 aft of the rear spar and repairing cracks). You may obtain further information by examining the MCAI in the AD docket.

Comments

We gave the public the opportunity to participate in developing this AD. We considered the comments received.

Request To Revise Applicability of NPRM

FedEx requests that we revise the applicability of the NPRM to exclude certain airplanes which have already been modified. FedEx states that airplanes having post-production modification 11178 (identified as Config. 14 in Airbus Service Bulletin A300-57-6029, Revision 06, dated March 23, 2007) installed should not be included in the service bulletin, as the Limit of Validity (LOV) for the airframe is close enough to the inspection thresholds for post-production modification 11178 to consider the modification as sufficient without specific follow-up maintenance requirements. FedEx therefore requests that we consider revising the applicability of the NPRM to exclude airplanes that have production modification 11178 installed, and asserts that if the LOV is extended, an airworthiness limitations instruction (ALI) could be added for the post mod inspection requirements.

We don't agree. These airplanes must be inspected before they reach their current LOV as it could not be demonstrated that extending the thresholds up to the revised LOV would provide an acceptable level of safety. Operators are provided some relief as the inspection is estimated to be 2 work-hours, which will not have significant impact on airplane maintenance. We have not changed the AD in this regard.

Request To Simplify Compliance Intervals

FedEx states it has 69 A300-600 aircraft affected by the NPRM and, so far, has had no problems with the wing skin at the intersection of the rear spar to the dummy spar inboard of Rib 9. FedEx states it finds Airbus Service Bulletin A300-57-6029, Revision 06, to be overly complex, constituting an undue burden to implement into its records system. We infer that FedEx is requesting that we reduce or streamline the inspection thresholds and intervals in the NPRM.

We do not agree with this request. The fatigue load spectrum differs from one airplane model to another. To reduce the number of inspection programs specified in the service bulletin, it would be necessary to require the more conservative compliance times which would place an excessive burden on some operators. However, operators are always permitted to accomplish the requirements of an AD before the required compliance time. Therefore, an operator with several Model A300-600 airplanes may choose to streamline the process by inspecting all those models using the most stringent compliance time specified in the AD. If an operator decides that more compliance time is needed, the operator may request an AMOC in accordance with paragraph (g)(1) of the AD. We have not changed the AD in this regard.

Request To Add Optional Terminating Action

FedEx requests that we add an optional terminating action to the NPRM. FedEx states that, for airplanes not found to be cracked that have not been previously repaired, an equivalent level of safety could be obtained by modifying the airplane in accordance with Airbus Service Bulletin A300-57-6064 (which describes procedures for installing internal and external reinforcing plates on bottom skin panel No. 2, a stiffener for the support structure, and a new cleat) prior to accumulating 10,000 total flight cycles or within 380 flight cycles after the effective date of the AD, whichever is later. FedEx states that some of its airplanes already have this modification installed, and asserts, therefore, that credit should be given for installing this modification using Revision 0 through 4 of Airbus Service Bulletin A300-57-6064. FedEx asserts that providing this terminating action would place the airplane beyond the LOV and make further follow-up inspections unnecessary, thereby enhancing safety and greatly simplifying compliance tracking.

We do not agree with this request. Fatigue and damage tolerance analysis has shown that, after installing modification 11178 as described in Airbus Service Bulletin A300-57-6064, this area must still be inspected to control or correct the development of cracks. Therefore, we have not changed the AD in this regard. However, operators may request an AMOC for adjustments to compliance times in accordance with paragraph (g)(1) of the AD.

Clarification of Typographical Error in Service Information

Airbus Service Bulletin A300-57-0177, Revision 05, dated March 23, 2007, specifies repetitive inspections for cracking if Airbus Service Bulletin A300-57-022 has not been embodied. Service Bulletin A300-57-022 does not exist. This AD correctly requires doing repetitive inspections for cracking if Airbus Service Bulletin A300-57-0222 (modification 11178H5410) has not been embodied.

Conclusion

We reviewed the available data, including the comments received, and determined that air safety and the public interest require adopting the AD as proposed.

Differences Between This AD and the MCAI or Service Information Conclusion

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 162 products of U.S. registry. We also estimate that it will take about 2 work-hours per product to comply with the basic requirements of this AD. The average labor rate is $80 per work-hour. Based on these figures, we estimate the cost of this AD to the U.S. operators to be $25,920, or $160 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-06-18 Airbus: Amendment 39-15430. Docket No. FAA-2007-28944; Directorate Identifier 2006-NM-239-AD.

Effective Date

(a) This airworthiness directive (AD) becomes effective April 23, 2008.

Affected ADs

(b) None.

Applicability

(c) This AD applies to Airbus Model A300 series airplanes and Model A300-600 series airplanes; certificated in any category; all certified models, all serial numbers.

Subject

(d) Wings.

Reason

(e) The mandatory continuing airworthiness information (MCAI) states:

This Airworthiness Directive (AD) is published subsequent to the detection of cracks on multiple aircraft in lower skin panel No. 2 forward of access panel 575FB/675FB held on the rear dummy spar, inboard of rib 9, fuselage side, aft of the rear spar.

This area of structure has been subjected to several repairs and modifications in previous years.

The AIRBUS Service Bulletins (SB) A300-57-0177 at Revision 3 and A300-57-6029 at Revision 4 define the various configurations for the mandatory inspections to be conducted in order to control or correct the development of cracks which could affect the structural integrity of the aircraft.

The MCAI requires doing repetitive inspections (detailed visual, high frequency eddy current, x-ray) of the wing lower skin panel and associated internal support structure for cracking and, if necessary, doing corrective measures (modifying the lower panel inboard of rib 9 aft of the rear spar and repairing cracks).

Actions and Compliance

(f) Unless already done, do the following actions.

(1) Except as provided by paragraphs (f)(1)(i), (f)(1)(ii), (f)(1)(iii), and (f)(1)(iv) of this AD: At the threshold specified in paragraph 1.E.(2) of Airbus Service Bulletin A300-57-0177, Revision 05, dated March 23, 2007; or A300-57-6029, Revision 06, dated March 23, 2007; as applicable; perform the inspection of the wing lower skin panel and associated internal support structure aft of the rear spar and inboard of rib 9 and apply applicable corrective measures in accordance with Airbus Service Bulletin A300-57-0177, Revision 05, dated March 23, 2007; or A300-57-6029, Revision 06, dated March 23, 2007; as applicable. All applicable corrective measures must be done at the applicable times specified in paragraph 1.E.(2) and the Accomplishment Instructions of the applicable service bulletin.

(i) Where the tables in paragraph 1.E.(2), “Accomplishment Timescale,” of the service bulletins specify a grace period for doing the actions, this AD requires that the actions be done within the specified grace period relative to the effective date of this AD.

(ii) Where the tables in paragraph 1.E.(2)(e), “Config 04,” of Airbus Service Bulletin A300-57-0177, Revision 05, specify an inspection interval but not an initial threshold, this AD requires that the actions be done within the specified interval after inspecting in accordance with Table 1A or 1B, as applicable, for Configuration 01 airplanes described in the service bulletin and thereafter at the inspection interval specified in the tables in paragraph 1.E.(2)(e), “Config 04,” of Airbus Service Bulletin A300-57-0177, Revision 05.

(iii) Where the tables in paragraph 1.E.(2)(f), “Config 05,” of Airbus Service Bulletin A300-57-6029, Revision 06, specify an inspection interval but not an initial threshold, this AD requires that the actions be done within the specified interval after inspecting in accordance with Table 1A or 1B, as applicable, for configuration 01 of the service bulletin and thereafter at the inspection interval specified in the tables in paragraph 1.E.(2)(f), “Config 05,” of A300-57-6029, Revision 06.

(iv) All crack lengths specified in Airbus Service Bulletin A300-57-0177, Revision 05, and A300-57-6029, Revision 06, are considered “not to exceed” lengths.

(2) Repeat the inspection at the intervals in, and according to the instructions defined in, Airbus Service Bulletin A300-57-0177, Revision 05, dated March 23, 2007; or A300-57-6029, Revision 06, dated March 23, 2007; as applicable; except where Service Bulletin A300-57-0177, Revision 05, specifies repetitive inspections for cracking if Airbus Service Bulletin A300-57-022 has not been embodied, this AD requires doing repetitive inspections for cracking if Airbus Service Bulletin A300-57-0222 (modification 11178H5410) has not been embodied.

(3) Report to Airbus the first inspection results, whatever they may be, at the applicable time specified in paragraph (f)(3)(i) or (e)(f)(ii) of this AD.

(i) If the inspection was done after the effective date of this AD, submit the report within 30 days after the inspection.

(ii) If the inspection was accomplished prior to the effective date of this AD, submit the report within 30 days after the effective date of this AD.

(4) Actions accomplished before the effective date of this AD in accordance with Airbus Service Bulletin A300-57-0177, Revision 03, dated May 29, 2006; Airbus Service Bulletin A300-57-0177, Revision 04, dated January 5, 2007; Airbus Service Bulletin A300-57-6029, Revision 04, dated May 29, 2006; or Airbus Service Bulletin A300-57-6029, Revision 05, dated October 23, 2006; are considered acceptable for compliance with the corresponding action specified in this AD.

FAA AD Differences

Note: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Stafford, Aerospace Engineer, International Branch, ANM-116, FAA, Transport Airplane Directorate, 1601 Lind Avenue, SW., Renton, Washington 98057-3356; telephone (425) 227-1622; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2006-0282, dated September 12, 2006; and the service information in Table 1 of this AD; for related information.

Table 1.—Service Information
Airbus Service Bulletin | Revision level | Date
A300-57-0177 | 05 | March 23, 2007.
A300-57-0222 | 01 | March 13, 2006.
A300-57-6029 | 06 | March 23, 2007.
A300-57-6064 | 04 | March 9, 2006.

Material Incorporated by Reference

(i) You must use the service information specified in Table 2 of this AD to do the actions required by this AD, unless the AD specifies otherwise.

(1) The Director of the Federal Register approved the incorporation by reference of this service information under 5 U.S.C. 552(a) and 1 CFR part 51.

(2) For service information identified in this AD, contact Airbus, 1 Rond Point Maurice Bellonte, 31707 Blagnac Cedex, France.

(3) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Table 2.—Material Incorporated by Reference
Airbus Service Bulletin | Revision level | Date
A300-57-0177 | 05 | March 23, 2007.
A300-57-6029 | 06 | March 23, 2007.

Issued in Renton, Washington, on March 7, 2008.
Ali Bahrami,
Manager, Transport Airplane Directorate, Aircraft Certification Service.

[FR Doc. E8-5149 Filed 3-18-08; 8:45 am]

BILLING CODE 4910-13-P